DEPARTMENT OF TRANSPORTATION

Federal Aviation Administration

14 CFR Part 39

[Docket No. 2000-CE-26-AD]

RIN 2120-AA64

Airworthiness Directives; Cessna Aircraft Company Models 172N, 172P, R172K, 172RG, F172N, F172P, FR172J, and FR172K Airplanes

AGENCY: Federal Aviation Administration, DOT.

ACTION: Notice of proposed rulemaking (NPRM).

SUMMARY: This document proposes to supersede Airworthiness Directive (AD) 80-04-08, which currently requires inspecting (one-time) the fuel line and map light switch in the left hand forward door post for chafing or arcing and repairing any damage found on certain Cessna Aircraft Company (Cessna) Model 172N, R172K, F172N, and FR172K airplanes. AD 80-04-08 also required providing at least a 0.50-inch clearance between the map light switch and the fuel line; and installing a switch cover (insulator) over the map light switch. The FAA has determined that chafing between the map light switch and the fuel line could continue to develop over the life of the affected airplanes. The proposed AD would extend the inspections and installation of the switch cover requirement to certain 172N, 172P, R172K, 172RG, F172N, F172P, FR172J, and FR172K series airplanes. The proposed AD would also require replacement of the fuel line, if damaged; and would make the switch cover inspection and replacement repetitive. The actions specified by the proposed AD are intended to detect and correct any chafing between the map light switch and the bordering fuel line, which could result in a fuel leak and an in-flight fire.

DATES: The Federal Aviation Administration (FAA) must receive any comments on this proposed rule by February 12, 2001.

ADDRESSES: Send three copies of comments to FAA, Central Region, Office of the Regional Counsel, Attention: Rules Docket No. 2000-CE-26-AD, 901 Locust, Room 506, Kansas City, Missouri 64106. You may read comments at this location between 8 a.m. and 4 p.m., Monday through Friday, except holidays.

You may get the service information referenced in the proposed AD from the Cessna Aircraft Company, P.O. Box 7706, Wichita, Kansas 67277; telephone: (316) 941-7550, facsimile: (316) 942-9008. You may look at this information at the Rules Docket at the address above.

FOR FURTHER INFORMATION CONTACT: Mr. Clyde Erwin, Aerospace Engineer, FAA, Wichita Aircraft Certification Office, 1801 Airport Road, Room 100, Mid-Continent Airport, Wichita, Kansas 67209, telephone: (316) 946-4149; facsimile: (316) 946-4407.

SUPPLEMENTARY INFORMATION:

Comments Invited

How Do I Comment on This Proposed AD?

We invite your comments on the proposed rule. You may send whatever written data, views, or arguments you choose. You need to include the rule's docket number and send your comments in triplicate to the address mentioned under the caption ADDRESSES. We will consider all comments received by the closing date mentioned above, before acting on the proposed rule. We may change the proposals contained in this notice because of the comments received.

Are There Any Specific Portions of the Proposed AD I Should Pay Attention to?

The FAA specifically invites comments on the overall regulatory, economic, environmental, and energy aspects of the proposed rule that might call for a need to change the proposed rule. You may examine all comments we receive. We will file a report in the Rules Docket that summarizes each FAA contact with the public that concerns the substantive parts of this proposal.

The FAA is reexamining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How Can I Be Sure FAA Receives My Comment?

If you want to know that we received your comments, you must include a self-addressed, stamped postcard. On the postcard, write “Comments Docket No. 2000-CE-26-AD.” We will date stamp and mail the postcard back to you.

Discussion

Has FAA Taken Any Action to This Point?

The FAA issued AD 80-04-08, Amendment 39-3696, February 16, 1980, in order to preclude the possibility of a fuel leak or an in-flight fire due to contact between a map light switch and an adjacent fuel line of certain Cessna Models 172N, R172K, F172N, and FR172K airplanes. AD 80-04-08 requires that you do the following on the affected airplanes:

—Visually inspect the fuel line and map light switch located in the left hand forward door post for chafing or arcing and replace damaged parts as necessary. If not already existing, provide at least a 0.50-inch clearance between the map light switch and the fuel line in accordance with procedures in FAA Advisory Circular 43.13-1A.

—Install a cover (insulator), Cessna Part Number 0511080-1, over the map light switch in accordance with Cessna Single Engine Service Information Letter SE80-3 and Supplement #1 thereto, both dated January 21, 1980.

AD 80-04-08 was the result of instances of chafing between the map light switch and the adjacent fuel line on the affected airplanes. When the chafing caused an electrical short, insulation melted from the map light wire and a hole was burned in the fuel line.

What Has Happened To Necessitate Further AD Action?

Since issuance of AD 80-04-08, FAA has received several reports of incidents of electrical shorts on Cessna Model 172N airplanes. These electrical shorts have resulted because the mounting screws may be elongated or broken out on the affected airplanes or doorpost cover shapes have changed over time. Switch covers may:

—Deteriorate over time;

—Receive damage from service activities,

—Be left off after service activities;

—Not be mounted properly; or

—Not be used in after-market interior installations.

AD 80-04-08 applied to only certain serial numbers and did not cover all of the models that have map light switches in the doorpost.

Is There Service Information That Applies to This Subject?

Cessna issued Service Bulletin SEB00-1, dated January 17, 2000.

What Are the Provisions of This Service Bulletin?

The service bulletin includes procedures for:

—Inspecting for the existence and damage to the cover (insulator) for the doorpost map light switch;

—Installing the cover (insulator) if not installed or found damaged; and

—Replacing the fuel line, if found damaged.

The FAA's Determination and an Explanation of the Provisions of the Proposed AD

What Has FAA Decided?

After examining the circumstances and reviewing all available information related to the incidents described above, we have determined that:

—The unsafe condition referenced in this document exists or could develop on other Cessna models 172N, 172P, R172K, 172RG, F172N, F172P, FR172J, and FR172K airplanes of the same type designs;

—The actions specified in the previously referenced service information should be accomplished on the affected airplanes; and

—AD action should be taken in order to correct this unsafe condition.

What Would This Proposed AD Require?

This proposed AD would supersede AD-80-04-08 with a new AD that would require:

—Repetitively inspecting for the existence and damage to the cover (insulator) for the doorpost map light switch;

—Installing a cover (insulator) if missing or damaged; and

—Replacing the fuel line, if damaged.

Cost Impact

How Many Airplanes Would This Proposed AD Impact?

We estimate that the proposed AD would affect at least 7,750 airplanes.

What Would Be the Cost Impact of the Proposed Initial Inspection for the Affected Airplanes on the U.S. Register?

We estimate that it would take approximately 1 workhour per airplane to do the proposed initial inspection, at an average labor rate of $60 an hour. Based on the figures presented above, the total cost impact of the proposed initial inspection on U.S. operators is estimated to be $465,000, or $60 per airplane. If any parts are required, the estimated cost per airplane for the cover (insulator) is $6.00. The cost for a replacement fuel line varies from $26.00 to $129.00, plus labor, depending on the airplane model.

What About the Cost of Repetitive Inspections?

The FAA has no way of determining the number of repetitive inspections each owner/operator would incur over the life of each of the affected airplanes, or how many covers (insulators) or fuel lines would need to be replaced, so the cost impact is based on the initial inspection.

What Is the Difference Between the Cost Impact of this Proposed AD and the Cost Impact of AD 80-04-08?

The cost impact of the proposed AD is more than currently required by AD 80-04-08. The differences between the proposed AD and AD 80-04-08 are the additional airplane models that would be affected and the repetitive inspections each affected airplane owner/operator would incur over the life of the airplane.

Regulatory Impact

Would This Proposed AD Impact Relations Between Federal and State Governments?

The regulations proposed would not have a substantial direct effect on the States, on the between the national government and the States, or on the distribution of power and responsibilities among the various levels of government. We have determined that this proposed rule would not have federalism implications under Executive Order 13132.

Would This Proposed AD Involve a Significant Rule or Regulatory Action?

For the reasons discussed above, I certify that this action (1) is not a “significant regulatory action” under Executive Order 12866; (2) is not a “significant rule” under DOT Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may get a copy of it by contacting the Rules Docket at the location provided under the caption ADDRESSES.

List of Subjects in 14 CFR Part 39

Air transportation, Aircraft, Aviation safety, Safety.

The Proposed Amendment

Therefore, under the authority delegated to me by the Administrator, the Federal Aviation Administration (FAA) proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 80-04-08, Amendment 39-3696, and by adding a new AD to read as follows:

Cessna Aircraft Company:

Docket No. 2000-CE-26-AD; Supersedes AD 80-04-08, Amendment 39-3696.

(a) What airplanes are affected by this AD? The following Cessna model airplanes, certificated in any category:

Model | Serial No.
172N | 17267585 through 17270049; 17270051 through 17274009; 17261445, 17261578, and 17270050.
172P | 17274010 through 17276654.
172RG | 172RG0001 through 172RG1191; and 691.
F172N | F17201640 through F17202039.
F172P | F17202040 through F17202254.
FR172J | FR17200531 through 17200590.
FR172K | FR17200591 through 17200675.
R172K | R1722000 through R1723454; and 680.

(b) Who must comply with this AD? Anyone who wishes to operate any of the above airplanes on the U.S. Register must comply with this AD.

(c) What problem does this AD address? The actions specified by this AD are intended to continue to detect and correct any chafing between the map light switch and the bordering fuel line, which could result in a fuel leak or an in-flight fire.

(d) What must I do to address this problem? To address this problem, unless already done, you must do the following actions:

Actions | Compliance time | Procedures
(1) Inspect the doorpost map light switch insulator (part number 0511080-1) to verify it is installed and (if installed) not damaged | Initially inspect within the next 100 hours time-in-service (TIS) after the effective date of this AD or within the next 12 calendar months after the effective date of this AD, whichever occurs first. Repetitively inspect thereafter at intervals not to exceed 12 calendar months | Do this action following the ACCOMPLISHMENT INSTRUCTIONS section of Cessna Service Bulletin SEB00-1, dated January 17, 2000.
(2) If a switch cover (insulator) is not installed or is damaged in any way, install a new insulator (part number 0511080-1) | Before further flight after the inspection where any damage is found or the cover is found missing | Do this action following the ACCOMPLISHMENT INSTRUCTIONS section of Cessna Service Bulletin SEB00-1, dated January 17, 2000, and the Cessna Manufacturer's Maintenance Manual.
(3) If the fuel line is damaged in any way, install a new fuel line. The replacement fuel line part number varies with aircraft model | Before further flight after the inspection where any damage is found | Do this action following the ACCOMPLISHMENT INSTRUCTIONS section of Cessna Service Bulletin SEB00-1, dated January 17, 2000, and the Cessna Manufacturer's Maintenance Manual.

Note 1: The compliance times specified in Cessna Service Bulletin SEB00-1, dated January 17, 2000, are different from those required by this AD. The compliance times in this AD take precedence over those in the service bulletin.

(e) Can I comply with this AD in any other way? You may use an alternative method of compliance or adjust the compliance time if:

(1) Your alternative method of compliance provides an equivalent level of safety; and

(2) The Manager, Wichita Aircraft Certification Office (ACO), approves your alternative. Send your request through an FAA Principal Maintenance Inspector, who may add comments and then send it to the Manager, Wichita ACO.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Mr. Clyde Erwin, Aerospace Engineer, FAA, Wichita Aircraft Certification Office, 1801 Airport Road, Room 100, Mid-Continent Airport, Wichita, Kansas 67209, telephone: (316) 946-4149; facsimile: (316) 946-4407.

(g) What if I need to fly the airplane to another location to comply with this AD? The FAA can issue a special flight permit under sections 21.197 and 21.199 of the Federal Aviation Regulations (14 CFR 21.197 and 21.199) to operate your airplane to a location where you can perform the requirements of this AD.

(h) How do I get copies of the documents referenced in this AD? You may get copies of the documents referenced in this AD from the Cessna Aircraft Company, P. O. Box 7706, Wichita, Kansas 67277; or you may read this document at FAA, Central Region, Office of the Regional Counsel, 901 Locust, Room 506, Kansas City, Missouri 64106.

(i) Does this AD action affect any existing AD actions? This amendment supersedes AD 80-04-08, Amendment 39-3696.

Issued in Kansas City, Missouri, on December 27, 2000.
David R. Showers,
Acting Manager, Small Airplane Directorate, Aircraft Certification Service.

[FR Doc. 01-343 Filed 1-5-01; 8:45 am]

BILLING CODE 4910-13-P -